DEPARTMENT OF HEALTH AND HUMAN SERVICES

National Advisory Committee on Seniors and Disasters: Establishment

AGENCY: Office of the Assistant Secretary for Preparedness and Response (ASPR), Department of Health and Human Services (HHS).

ACTION: Notice.

SUMMARY: The Office of the Assistant Secretary for Preparedness and Response (ASPR), in the Department of Health and Human Services (HHS) Office of the Secretary announces establishment of the National Advisory Committee on Seniors and Disasters (NACSD or Advisory Committee). The Advisory Committee will provide advice and recommendations to the Secretary of HHS, in accordance with the Federal Advisory Committee Act (FACA), to support and enhance all-hazards public health and medical preparedness, response activities, and recovery aimed at meeting the unique needs of seniors (older adults). The ASPR shall provide management and administrative oversight to support the activities of the Advisory Committee. The Office of the Secretary is accepting application submissions from qualified individuals who wish to be considered for membership on the NACSD. Up to seven new voting members with expertise in senior medical disaster planning, preparedness, response, or recovery will be selected for the Committee. Please visit the NACSD website at www.phe.gov/nacsd for all application submission information and instructions. Application submissions will be accepted for 30 calendar days from the date this posting is published in the Federal Register.

DATES: Application Period: The application submissions will be accepted for 30 calendar days from the date this posting is published in the Federal Register.

FOR FURTHER INFORMATION CONTACT: Maxine Kellman, DVM, Ph.D., PMP, Designated Federal Official for National Advisory Committees, Washington, DC, Office (202) 260-0447 or email maxine.kellman@hhs.gov.

SUPPLEMENTARY INFORMATION: Pursuant to the Public Health Service (PHS) Act and FACA, the HHS Secretary, in consultation with the Secretary of the U.S. Department of Homeland Security, has established the National Advisory Committee on Seniors and Disasters (NACSD). Section 2811B of the PHS Act (42 U.S.C. 300hh-10c), as amended, by the Pandemic and All-Hazards Preparedness and Advancing Innovation Act (PAHPAIA), Public Law 116-22 requires that the HHS Secretary establish the NACSD to provide advice and consultation to the HHS Secretary with respect to the medical and public health needs of seniors in relation to disasters. The purpose of the NACSD is to provide findings, advice, and recommendation to the Secretary of HHS, in accordance with FACA, to support and enhance all-hazards public health and medical preparedness, response activities, and recovery aimed at meeting the unique needs of seniors. The Office of the Assistant Secretary for Preparedness and Response provides management and administrative oversight to support the activities of the NACSD.

Description of Duties: The NACSD: (1) Provide advice and consultation with respect to the activities carried out pursuant to section 2814 of the PHS Act, as applicable and appropriate; (2) evaluate and provide input with respect to the medical and public health needs of seniors related to preparation for, response to, and recovery from all-hazards emergencies; and (3) provide advice and consultation with respect to State emergency preparedness and response activities relating to seniors, including related drills and exercises pursuant to the preparedness goals under section 2802(b) of the PHS Act. The NACSD may provide advice and recommendations to the Secretary with respect to seniors and the medical and public health grants and cooperative agreements as applicable to preparedness and response activities under Titles XXVIII and III of the PHS Act.

Structure: The Advisory Committee consists of not more than seven voting members, including the Chairperson. Members will be appointed by the HHS Secretary, in consultation with such other Secretaries as may be appropriate, from among the nation's preeminent scientific, public health, and medical experts in areas consistent with the purpose and functions of the NACSD. Section 2811B of the PHS Act States:

(2) Required Non-Federal Members.—The Secretary, in consultation with such other heads of Federal agencies as may be appropriate, shall appoint to the Advisory Committee under paragraph (1) at least seven individuals, including—

(A) At least two non-federal health care professionals with expertise in geriatric medical disaster planning, preparedness, response, or recovery; and;

(B) At least two representatives from State, local, Tribal, or territorial agencies with expertise in geriatric disaster planning, preparedness, response, or recovery.

The NACSD shall also have up to 10 federal, non-voting members (ex officio), including the following officials or their designees:

A. The Assistant Secretary for Preparedness and Response;

B. The Director of the Biomedical Advanced Research and Development Authority;

C. The Director of the Centers for Disease Control and Prevention;

D. The Commissioner of Food and Drugs;

E. The Director of the National Institutes of Health;

F. The Administrator of the Centers for Medicare & Medicaid Services;

G. The Administrator of the Administration for Community Living;

H. The Administrator of the Federal Emergency Management Agency;

I. The Under Secretary for Health of the Department of Veterans Affairs; and

J. Representatives of such other Federal agencies as the Secretary determines necessary to fulfill the duties of the Advisory Committee.

A voting member of the NACSD shall serve for a term of three years, except that the Secretary may adjust the terms of appointees who are initially appointed after the date of enacted of the Pandemic and All-Hazards Preparedness and Advancing Innovation Act of 2019 (June 24, 2019) in order to provide for a staggered term of appointment for all members. A voting member may serve not more than three terms on the NACSD, and not more than two of such terms may be served consecutively. Voting members shall not be full-time or permanent part-time federal employees but shall be appointed by the Secretary as Special Government Employees (5 U.S.C. 3109). A member may serve after the expiration of his/her term until a successor has been appointed. Vacancies will be filled as members rotate out or resign using the same procedures as the initial selection process.

Nikki Bratcher-Bowman,
Acting Assistant Secretary for Preparedness and Response.

[FR Doc. 2021-10081 Filed 5-12-21; 8:45 am]

BILLING CODE 4150-37-P